DEPARTMENT OF ENERGY

Federal Energy Regulatory Commission

Notice of Filing of Fisheries Studies Report and Study Proposals, and Soliciting Comments, Motions To Intervene, and Protests

June 24, 2005.

Take notice that the following hydroelectric report has been filed with the Commission and is available for public inspection:

a. Type of Filing: Ten-year summary report on fisheries studies conducted in the Tuolumne River and recommendations for additional studies, as required by Paragraph G of the Order Amending License and Dismissing Hearing Requests issued July 31, 1996 (76 FERC ¶ 61,117).

b. Project No.: 2299-057.

c. Date Filed: March 25, 2005.

d. Licensees: Turlock and Modesto Irrigation Districts.

e. Name of Project: Don Pedro.

f. Location: The project is located on the Tuolumne River in Stanislaus and Tuolumne Counties, California.

g. Filed Pursuant to: Federal Power Act, 16 U.S.C. 791(a)-825(r).

h. Licensees' Contacts: Mr. Larry Weis, General Manager, Turlock Irrigation District, P.O. Box 949, Turlock, California 95381; Mr. Allen Short, General Manager, Modesto Irrigation District, P.O. Box 4060, Modesto, California 95352.

i. FERC Contact: Any questions on this notice should be directed to Philip Scordelis at 415-369-3335, or e-mail address philip.scordelis@ferc.gov.

j. Deadline for filing comments and/or motions: July 25, 2005. Deadline for filing replies to comments and/or motions: 60 days from the date of this notice.

k. Description of Filing and Related Matters: The filing consists of the ten-year summary report on the licensees' chinook salmon studies, monitoring, and non-flow mitigation efforts in the Tuolumne River since 1995. The filing also includes the licensees' proposals for continuing their current monitoring program, consultation and reporting efforts, flow release schedule, flow fluctuation controls, and habitat restoration projects. Proposals to implement measures to increase utilization of spawning habitat and to reduce smolt predation are described in the filing. These efforts would continue through the current license period (2016). The Commission also invites comments on consideration of the Endangered Species Act issues involving Central Valley steelhead that were deferred pending completion of ongoing studies and informal consultation, by order issued on December 22, 2003 (105 FERC ¶ 61,332).

l. Location of the Applications: The filing is available for inspection and review at the Commission's Public Reference Room, located at 888 First Street, NE., Room 2A, Washington, DC 20426, or by calling (202) 502-8371. This filing may also be viewed on the Commission's Web site at http://www.ferc.gov using the “eLibrary” link. Enter the docket number (excluding the last three digits) into the “Docket Number” field to access the document. You may also register online at http://www.ferc.gov/docs-filing/esubscription.asp to be notified via e-mail of new filings and issuances related to this or other pending projects. For assistance, call the 1-866-208-3676 or e-mail FERCOnlineSupport@ferc.gov, for TTY, contact (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers (P-2299-057). All documents (including an original and eight copies) should be filed with: Ms. Magalie R. Salas, Secretary, Federal Energy Regulatory Commission, 888 First Street NE., Washington, DC 20426. A copy of any motion to intervene must also be served upon each licensee representative specified in the particular filing.

p. Agency Comments—Federal, state, and local agencies are invited to file comments on the described filing. A copy of the filing may be obtained by agencies directly from the Licensees. If an agency does not file comments within the time specified for filing comments, it will be presumed to have no comments. One copy of an agency's comments must also be sent to the Licensees' representatives.

q. Comments, protests, and interventions may be filed electronically via the internet in lieu of paper. See 18 CFR 385.2001(a)(1)(iii) and the instructions on the Commission's Web site at http://www.ferc.gov under the e-Filing link.

Magalie R. Salas,
Secretary.

[FR Doc. E5-3449 Filed 6-30-05; 8:45 am]

BILLING CODE 6717-01-P